DEPARTMENT OF COMMERCE

Foreign-Trade Zones Board

Docket 28-2007, Docket 29-2007, Docket 30-2007

Foreign-Trade Zone 158 - Vicksburg/Jackson, MS, Requests for Manufacturing Authority, Comment Period on New Evidence Lane Furniture Industries, Inc.; H.M. Richards, Inc.; Bauhaus USA, Inc. (Upholstered Furniture)

On October 8, 2008, the applicant in the above-referenced proceedings made a submission to the Foreign-Trade Zones Board containing new factual evidence on which there has not been an opportunity for public comment. Public comments limited to the evidence in the October 8, 2008, submission may be submitted until November 14, 2008. Rebuttal comments may be submitted during the subsequent 15-day period, until December 1, 2008. Submissions (original and 3 copies) shall be addressed to the Board's Executive Secretary at: Foreign-Trade Zones Board, U.S. Department of Commerce, Room 2111, 1401 Constitution Ave., NW, Washington, DC 20230. For further information, contact Pierre Duy, examiner, at: (202) 482-1378 or pierre_duy@ita.doc.gov.

Dated: October 9, 2008.
Andrew McGilvray,
Executive Secretary.

[FR Doc. E8-24479 Filed 10-14-08; 8:45 am]

BILLING CODE 3510-DS-S